NATIONAL AERONAUTICS AND SPACE ADMINISTRATION

[Notice 00-125]

Aerospace Safety Advisory Panel; Meeting

AGENCY: National Aeronautics and Space Administration.

ACTION: Notice of Meeting.

SUMMARY: In accordance with the Federal Advisory Committee Act, Pub. L. 92-463, as amended, the National Aeronautics and Space Administration announces a forthcoming meeting of the Aerospace Safety Advisory Panel.

DATES: Friday, November 10, 2000, 10 a.m. to 12:30 p.m.

ADDRESSES: National Aeronautics and Space Administration, 300 E Street, SW., Room 5W40, Washington, DC 20546.

FOR FURTHER INFORMATION CONTACT: Notify Ms. Suzanne E. Hilding, Code Q-1, National Aeronautics and Space Administration, Washington, DC 20546, 202/358-1455, if you plan to attend.

SUPPLEMENTARY INFORMATION: The Aerospace Safety Advisory Panel will meet to deliberate topics for inclusion in its Annual Report for 1999. This is pursuant to carrying out its statutory duties for which the Panel reviews, identifies, evaluates, and advises on those program activities, systems, procedures, and management activities that can contribute to program risk. Priority is given to those programs that involve the safety of human flight. The Aerospace Safety Advisory Panel is currently chaired by Richard D. Blomberg and is composed of 9 members and 8 consultants. The meeting will be open to the public up to the capacity of the room (approximately 40 persons including members of the Panel).

Dated: October 5, 2000.
Beth M. McCormick,
Advisory Committee Management Officer, National Aeronautics and Space Administration.

[FR Doc. 00-26301 Filed 10-12-00; 8:45 am]

BILLING CODE 7510-01-P